DEPARTMENT OF DEFENSE

Office of the Secretary

[Docket ID: DoD-2021-OS-0040]

Submission for OMB Review; Comment Request

AGENCY: Office of the Under Secretary of Defense for Acquisition and Sustainment, Department of Defense (DoD).

ACTION: Information collection notice.

SUMMARY: Consistent with the Paperwork Reduction Act of 1995 and its implementing regulations, this document provides notice DoD is submitting an Information Collection Request to the Office of Management and Budget (OMB) to collect information necessary for the Office of Local Defense Community Cooperation to make and maintain grants to qualified applicants under the Defense Community Infrastructure Program. DoD requests emergency processing and OMB authorization to collect the information after publication of this notice for a period of six months.

DATES: Comments must be received by June 11, 2021.

ADDRESSES: The Department has requested emergency processing from OMB for this information collection request by 15 days after publication of this notice. Interested parties can access the supporting materials and collection instrument as well as submit comments and recommendations to OMB at www.reginfo.gov/public/do/PRAMain. Find this particular information collection by selecting “Currently under 15-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: Section 2391(d) of Title 10, United States Code (10 U.S.C. 2391), authorizes the Secretary of Defense to, “make grants, conclude cooperative agreements, and supplement funds available under Federal programs administered by agencies other than the Department of Defense, for projects owned by a State or local government, or a not-for-profit, member-owned utility service to address deficiencies in community infrastructure supportive of a military installation.” This information collection supports the awarding of grants under the Defense Community Infrastructure Program. The criteria established for the selection of community infrastructure projects will likely reflect projects consisting of some combination of attributes that will enhance: (i) Military value; (ii) military installation resilience; and/or, (iii) military family quality of life at a military installation. The Consolidated Appropriations Act for Fiscal Year 2021 (PL 116-260) provides $60 million to the Office of Local Defense Community Cooperation for this program, and these funds expire if they are not obligated prior to September 30, 2021.

Title; Associated Form; and OMB Number: Defense Community Infrastructure Program; OMB Control Number 0704-DCIP.

Type of Request: New.

Grant Proposal

Number of Respondents: 150.

Responses per Respondent: 1.

Annual Responses: 150.

Average Burden per Response: 15 hours.

Annual Burden Hours: 2,250.

Grant Application and Post-Award Performance Reporting

Number of Respondents: 15.

Responses per Respondent: 6.

Annual Responses: 90.

Average Burden per Response: 130 minutes.

Annual Burden Hours: 195.

Affected Public: State, Local, and Tribal Governments.

Frequency: Annually.

Respondent's Obligation: Voluntary (Grant Proposal); Required to Obtain or Retain Benefits (Grant Application and Post-Award Performance Reporting).

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: May 24, 2021.
Aaron T. Siegel,
Alternate OSD Federal Register Liaison Officer, Department of Defense.

[FR Doc. 2021-11271 Filed 5-26-21; 8:45 am]

BILLING CODE 5001-06-P